DEPARTMENT OF COMMERCE

International Trade Administration

[A-351-809, A-201-805, A-580-809, A-583-814, A-583-008]

Certain Circular Welded Non-Alloy Steel Pipe From Brazil, Mexico, the Republic of Korea, and Taiwan and Certain Circular Welded Carbon Steel Pipes and Tubes From Taiwan: Final Results of Expedited Fifth Sunset Reviews of the Antidumping Duty Orders

AGENCY: Enforcement and Compliance, International Trade Administration, Department of Commerce.

SUMMARY: As a result of these expedited sunset reviews, the U.S. Department of Commerce (Commerce) finds that revocation of the antidumping duty (AD) orders on certain circular welded non-alloy steel pipe (CWP) from Brazil, Mexico, the Republic of Korea (Korea), and Taiwan, and certain circular welded carbon steel pipes and tubes (pipes and tubes) from Taiwan would be likely to lead to continuation or recurrence of dumping at the levels indicated in the “Final Results of Sunset Reviews” section of this notice.

DATES: Applicable May 9, 2023.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On January 3, 2023, Commerce published the notice of initiation of the sunset reviews of the AD orders on CWP from Brazil, Mexico, Korea, and Taiwan, and pipes and tubes from Taiwan, pursuant to section 751(c) of the Tariff Act of 1930, as amended (the Act).¹ On January 17 and 18, 2023, Commerce received notices of intent to participate from the domestic interested parties ² for each of the Orders,³ as required by 19 CFR 351.218(d)(1)(i).⁴ The domestic interested parties claimed domestic interested party status under section 771(9)(C) of the Act, as manufacturers of a domestic like product in the United States. On February 3, 2023, the domestic interested parties submitted a timely substantive response for each of the sunset reviews within the 30-day deadline specified in 19 CFR 351.218(d)(3)(i).⁵ Commerce did not receive a substantive response from any other interested parties with respect to the Orders covered by these sunset reviews. On February 24, 2023, Commerce notified the U.S. International Trade Commission that it did not receive an adequate substantive response from respondent interested parties in any of these sunset reviews.⁶ As a result, pursuant to section 751(c)(3)(B) of the Act and 19 CFR 351.218(e)(1)(ii)(C)(2), Commerce conducted expedited (120-day) sunset reviews of these Orders. On April 21, 2023, Commerce requested that domestic interested parties provide a new submission with corrected import data for the CWP from Taiwan sunset review as well as the December 2022 import data for both the CWP from Taiwan and the pipes and tubes from Taiwan sunset reviews because the import data submitted for the CWP from Taiwan review was incorrect.⁷ On April 24, 2023, the domestic interested parties submitted updated import data for the CWP from Taiwan and the pipes and tubes from Taiwan sunsets reviews.⁸

¹ See Initiation of Five-Year (Sunset) Review, 88 FR 63 (January 3, 2023).

² The domestic interested parties consist of Bull Moose Tube Company, Maruichi American Corporation, Nucor Tubular Products Inc. (Nucor), and Zekelman Industries.

³ See Notice of Antidumping Duty Orders: Certain Circular Non-Alloy Steel Pipe from Brazil, the Republic of Korea (Korea), Mexico, Taiwan, and Venezuela and Amendment to Final Determination of Sales at Less Than Fair Value: Certain Circular Welded Non-Alloy Steel Pipe from Korea, 57 FR 49453 (November 2, 1992) (CWP Orders for Brazil, Korea, and Mexico and CWP Order for Taiwan); see also Certain Circular Welded Carbon Steel Pipes and Tubes from Taiwan: Antidumping Duty Order, 49 FR 19369 (May 7, 1984) (Pipes and Tubes Order for Taiwan) (collectively, Orders). (The order for Venezuela was revoked on August 22, 2000; see Revocation of Antidumping Duty Orders: Circular Welded Non-Alloy Steel Pipe and Tube from Venezuela; Small Diameter Standard and Rectangular Pipe and Tube from Singapore; and Oil Country Tubular Goods from Canada and Taiwan, 65 FR 50954 (August 22, 2000)).

⁴ See Nucor's Letters, “Circular Welded Non-Alloy Steel Pipe from Brazil: Notice of Intent to Participate in Sunset Review,” “Circular Welded Non-Alloy Steel Pipe from Mexico: Notice of Intent to Participate in Sunset Review,” “Circular Welded Non-Alloy Steel Pipe from Taiwan: Notice of Intent to Participate in Sunset Review,” and “Certain Circular Welded Carbon Steel Pipes and Tubes from Taiwan: Notice of Intent to Participate in Sunset Review,” each dated January 17, 2023; see also Domestic Interested Parties' Letters, “Fifth Five-Year Review of the Antidumping Duty Order on Certain Circular Welded Non-Alloy Steel Pipe from Brazil: Notice of Intent to Participate,” Fifth Five-Year Review of the Antidumping Duty Order on Certain Circular Welded Non-Alloy Steel Pipe from Mexico: Notice of Intent to Participate,” “Fifth Five-Year Review of the Antidumping Duty Order on Certain Circular Welded Non-Alloy Steel Pipe from South Korea: Notice of Intent to Participate,” “Fifth Five-Year Review of the Antidumping Duty Order on Certain Circular Welded Non-Alloy Steel Pipe from Taiwan: Notice of Intent to Participate,” and “Fifth Five-Year Review of the Antidumping Duty Order on Certain Circular Welded Carbon Steel Pipes and Tubes from Taiwan: Notice of Intent to Participate,” each dated January 18, 2023.

⁵ See Domestic Interested Parties' Letters, “Circular Welded Non-Alloy Steel Pipe from Brazil,” “Circular Welded Non-Alloy Steel Pipe from Mexico,” “Circular Welded Non-Alloy Steel Pipe from South Korea,” “Circular Welded Non-Alloy Steel Pipe from Taiwan,” and “Circular Welded Carbon Steel Pipes and Tubes from Taiwan,” each dated February 2, 2023.

⁶ See Commerce's Letter, “Sunset Reviews for January 2023,” dated January 25, 2023.

⁷ See Memorandum, “Circular Welded Carbon Non-Alloy Steel Pipe from Taiwan (A-583-814), Correcting Import Data on the Administrative Record,” dated April 21, 2023.

⁸ See Domestic Interested Parties' Letter, “Circular Welded Carbon Steel Pipes Fifth Five-Year Review of the Antidumping Duty Orders on Certain Circular Welded Non-Alloy Steel Pipe from Taiwan: Updated Import Data,” dated April 24, 2023, at Exhibit 1; see also Memorandum, “Circular Welded Carbon Steel Pipes and Tubes from Taiwan (A-583-008), Correcting Import Data on the Administrative Record,” dated April 28, 2023.

Scopes of the Orders

CWP Orders for Brazil, Korea, and Mexico

The products covered by these orders are circular welded non-alloy steel pipes and tubes, of circular cross-section, not more than 406.4 mm (16 inches) in outside diameter, regardless of wall thickness, surface finish (black, galvanized, or painted), or end finish (plain end, bevelled end, threaded, or threaded and coupled). For a full description of the scope of these orders, see the Issues and Decision Memorandum.⁹

⁹ See Memorandum, “Issues and Decision Memorandum for the Final Results of Certain Circular Welded Non-Alloy Steel Pipe from Brazil, Mexico, the Republic of Korea, and Taiwan; and Certain Circular Welded Carbon Steel Pipes and Tubes from Taiwan; Expedited Fifth Sunset Review,” dated concurrently with, and hereby adopted by, this notice (Issues and Decision Memorandum).

CWP Order for Taiwan

The products covered by this order are: (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). For a full description of the scope of this order, see the Issues and Decision Memorandum.

Pipes and Tubes Order for Taiwan

The merchandise covered by this order is certain circular welded carbon steel pipes and tubes from Taiwan, which are defined as: welded carbon steel pipes and tubes, of circular cross section, with walls not thinner than 0.065 inch, and 0.375 inch or more but not over 4.5 inches in outside diameter. For a full description of the scope of this order, see the Issues and Decision Memorandum

Analysis of Comments Received

All issues raised in these sunset reviews are addressed in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Reviews

Pursuant to sections 751(c) and 752(c) of the Act, Commerce determines that revocation of the Orders would be likely to lead to continuation or recurrence of dumping, and that the magnitude of the dumping margins likely to prevail would be up to: 103.38 percent for Brazil, 7.32 percent for Mexico, 1.20 percent for Korea, 27.65 percent for CWP from Taiwan, and 8.91 percent for pipes and tubes from Taiwan.

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results and notice in accordance with sections 751(c), 752(c), and 777(i)(1) of the Act, and 19 CFR 351.218(e)(1)(ii)(C)(2) and 19 CFR 351.221(c)(5)(ii).

Dated: May 3, 2023.
Abdelali Elouaradia,
Deputy Assistant Secretary for Enforcement and Compliance.

Appendix

List of Topics Discussed in the Issues and Decision Memorandum

I. Summary

II. Background

III. Scopes of the Orders

IV. History of the Orders

V. Legal Framework

VI. Discussion of the Issues

1. Likelihood of Continuation or Recurrence of Dumping

2. Magnitude of the Margins Likely to Prevail

VII. Final Results of Sunset Reviews

VIII. Recommendation

[FR Doc. 2023-09855 Filed 5-8-23; 8:45 am]

BILLING CODE 3510-DS-P